OFFICE OF MANAGEMENT AND BUDGET

Request for Comments on Zero Trust Strategy Document

AGENCY: Office of Management and Budget, (OMB).

ACTION: Notice of public comment period.

SUMMARY: The Office of Management and Budget (OMB) is seeking public comment on a draft strategy document titled “Moving the U.S. Government Towards Zero Trust Cybersecurity Principles.”

DATES: The public comment period begins on September 8, 2021 and will last for 14 days. The public comment period will end on September 22, 2021.

ADDRESSES: Interested parties should provide comments at the following link: https://zerotrust.cyber.gov/. The Office of Management and Budget is located at 725 17th Street NW, Washington, DC 20503.

Instructions: Comments that are sent by means other than submission using the instructions on https://zerotrust.cyber.gov, or that are received after the end of the comment period, may not be considered. Comments submitted in response to this notice may be made publicly available and are subject to disclosure under the Freedom of Information Act. For this reason, please do not include in your comments information of a confidential nature, such as sensitive personal information or proprietary information, or any information that you would not want publicly disclosed.

FOR FURTHER INFORMATION CONTACT: Eric Mill at zerotrust@omb.eop.gov or 202-456-3484.

SUPPLEMENTARY INFORMATION: The Office of Management and Budget (OMB) seeks comment on a draft of a Federal Government strategy to move Departments and Agencies to a zero trust architecture. Executive Order 14028, “Improving the Nation's Cybersecurity,” requires the Federal Government to adopt a zero trust architecture. OMB is publishing strategic guidance for Departments and Agencies containing baseline expectations for their migrations to a zero trust architecture. OMB welcomes public input on this strategy in advance of finalization. This strategy document will be available for review and public comment at https://zerotrust.cyber.gov/.

Clare Martorana,
U.S. Federal Chief Information Officer.

[FR Doc. 2021-19303 Filed 9-7-21; 8:45 am]

BILLING CODE 3110-05-P